DEPARTMENT OF HEALTH AND HUMAN SERVICES

Administration for Children and Families

Submission for OMB Review; Comment Request

Title: Tribal Personal Responsibility Education Program (Tribal PREP) Implementation Plan and PPR.

OMB No: New Collection.

Description: Description: The Patient Protection and Affordable Care Act, 2010, also known as health care reform, amends Title V of the Social Security Act (42 U.S.C. 701 et seq.) as amended by sections 2951 and 2952(c), by adding section 513, authorizing the Personal Responsibility Education Program (PREP). The President signed into law the Patient Protection and Affordable Care Act on March 23, 2010, Public Law 111-148, which adds the new PREP program and provisions for a 5% set-aside for Tribes and tribal organizations. The purpose of this program is to: Educate adolescents on both abstinence and contraception; to prevent pregnancy and sexually transmitted infections; and at least three adulthood preparation subjects. The PREP grant funding is authorized from FY 2010 through FY 2014.

A request is being made to solicit comments from the public on paperwork reduction as it relates to ACYF's receipt of the following documents from awardees:

Respondents: 16 Tribal PREP grantees.

Annual Burden Estimates
Instrument | Number of respondents | Number of responses per respondent | Average burden hours per response | Total burden hours
Tribal PREP Implementation Plan | 16 | 1 | 50 | 800
Performance Progress Reports | 16 | 2 | 30 | 960

Estimated Total Annual Burden Hours: 1760.

Additional Information: Copies of the proposed collection may be obtained by writing to the Administration for Children and Families, Office of Planning, Research and Evaluation, 370 L'Enfant Promenade SW., Washington, DC 20447, Attn: ACF Reports Clearance Officer. All requests should be identified by the title of the information collection. Email address: infocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration for Children and Families.

Robert Sargis,
Reports Clearance Officer.

[FR Doc. 2012-9544 Filed 4-19-12; 8:45 am]

BILLING CODE 4184-01-P